DEPARTMENT OF ENERGY

Federal Energy Regulatory Commission

[Docket No. EL05-104-000]

Southern Companies Energy Marketing, Inc. and Southern Companies Services, Inc.; Notice of Institution of Proceeding and Refund Effective Date

May 12, 2005.

On May 5, 2005, the Commission issued an order that instituted a proceeding in Docket No. EL05-104-000, pursuant to section 206 of the Federal Power Act (FPA), 16 U.S.C. 824e, to investigate whether Southern Companies ¹ satisfies three parts of the Commission's market-based rate analysis, namely, transmission market power, barriers to entry, and affiliate abuse or reciprocal dealing standards. Southern Companies Energy Services Marketing, Inc. and Southern Companies Services, Inc. 111 FERC ¶ 61,144 (2005).

¹ Southern Companies include Southern Companies Services, Alabama Power Company, Georgia Power Company, Gulf Power Company, Mississippi Power Company, Savannah Electric and Power Company, and Southern Power Company.

The refund effective date in Docket No. EL05-104-000, established pursuant to section 206(b) of the FPA, will be 60 days from the date of publication of this notice in the Federal Register.

Magalie R. Salas,
Secretary.

[FR Doc. E5-2534 Filed 5-19-05; 8:45 am]

BILLING CODE 6717-01-P